OFFICE OF PERSONNEL MANAGEMENT

Privacy Act of 1974; System of Records

AGENCY: U.S. Office of Personnel Management, Healthcare and Insurance.

ACTION: Notice of New System of Records.

SUMMARY: In accordance with the Privacy Act of 1974, the Office of Personnel Management (OPM) proposes to establish a new system of records titled “OPM/Central-23 FEHB Program Enrollment Records.” This system of records will contain information about enrollees and their family members, who are or have been covered under the Federal Employees Health Benefits (FEHB) Program. This newly established system of records will be included in OPM's inventory of record systems.

DATES: Please submit comments on or before February 22, 2021. This new system is effective upon today's publication in the Federal Register, with the exception of the routine uses, which are effective February 25, 2021.

ADDRESSES: You may submit written comments by one of the following methods:

• Federal Rulemaking Portal: http://www.regulations.gov. Follow the instructions for submitting comments. All submissions received must include the agency name and docket number for this Federal Register document. The general policy for comments and other submissions from members of the public is to make these submissions available for public viewing at http://www.regulations.gov as they are received without change, including any personal identifiers or contact information.

• Mail: Padma Shah, Senior Policy Analyst, Healthcare and Insurance, Office of Personnel Management, Suite 3468, 1900 E Street NW, Washington, DC 20415.

FOR FURTHER INFORMATION CONTACT: For general questions, please contact Padma Shah, 202-606-2128. For privacy questions, please contact Kellie Cosgrove Riley, Chief Privacy Officer, 202-606-2308.

SUPPLEMENTARY INFORMATION: In accordance with the Privacy Act of 1974, 5 U.S.C. 552a, the Office of Personnel Management proposes to establish a new system of records titled “OPM/Central-23, FEHB Program Enrollment Records.” This system of records is being established to support OPM's administration of the Federal Employees Health Benefits (FEHB) Program and will contain information about enrollees and their family members, who are or have been covered under the FEHB Program. The records are used for business processes related to eligibility verification, enrollment transactions, enrollment reconciliation, and premium collection; and to support the evaluation of the effectiveness of the FEHB Program through statistical analysis, policy planning, and reporting. To effectuate these purposes, OPM also uses contracts and interagency agreements.

Established in 1960 through the Federal Employees Health Benefits Act of 1959, 5 U.S.C. 8901 et seq., the FEHB Program is the largest employer-sponsored group health insurance program in the world, covering over 8 million individuals. Covered individuals, as defined in 5 CFR 890.101, include employees of the Federal government, annuitants, members of their families, former spouses, and miscellaneous groups, enumerated in 5 U.S.C. 8901; United States Postal Service employees and annuitants, pursuant to 39 U.S.C. 1005; tribal employees, pursuant to 25 U.S.C. 1647b; and separated employees and former dependents who are eligible for Temporary Continuation of Coverage under 5 U.S.C. 8905a.

Eligible individuals may elect to enroll or change enrollment in the FEHB Program through a Health Benefits Election Form (i.e., either the SF-2809 or OPM 2809 form) or an electronic alternative, which records information about themselves and their family members. Information is also collected through agencies via the Notice of Change in Health Benefits Enrollment (SF 2810). These paper or electronic instruments are submitted to the appropriate employing offices, as defined in 5 CFR 890.101 and then forwarded to FEHB Carriers; electronic transactions are processed through OPM's FEHB Data Hub (see below). Enrollees have opportunities to enroll or change enrollment upon entry on duty, other qualifying life events (QLEs) such as marriage or the birth of a child, and during the annual Federal Benefits Open Season.

Records about covered individuals under the FEHB Program are currently managed within four information technology systems. First, the Health Insurance Data Warehouse (HIDW), when fully developed, will host a Master Enrollment Index (MEI) of all covered individuals under the FEHB Program. Second, the FEHB Data Hub serves various purposes including receipt of electronic enrollment transactions from agencies, posting enrollment data to a server for secure distribution to the FEHB Carriers, and transferring quarterly enrollment data from the Carriers to the Centralized Enrollment Reconciliation Clearinghouse System (CLER). Third, OPM has an interagency agreement with the U.S. Department of Agriculture's National Finance Center (NFC) to develop and maintain CLER, which receives quarterly enrollment data from agencies and FEHB Carriers to facilitate reconciliation and reporting. Finally, OPM has another interagency agreement with NFC to develop and maintain the Tribal Insurance Processing System (TIPS), which collects enrollment data and premium payments from tribal employers.

While OPM is responsible for overall FEHB Program administration, the enrollment records in this system of records are obtained from a variety of sources, including other systems of records. For example, enrollment records may be maintained by employing agencies and in individuals' official personnel folders, where they are part of the OPM/Government-1 General Personnel Records system of records. Likewise, records concerning annuitants' FEHB enrollment may be maintained by OPM Retirement Services in individual annuitants' files as part of the currently titled OPM/Central-1 Civil Service Retirement and Insurance system of records (OPM/Central-1). A note has been added to the SORN to clarify that although some enrollment records continue to be maintained in other systems of records, Central-23 becomes the official, first line source for enrollment records.

The records contained in this new system of records to date have been included in OPM/Central-1. However, OPM's organizational structure and its retirement and insurance programs have evolved over time and OPM has determined that OPM/Central-1 no longer provides the public with the most informative notice regarding the system of records, nor adequately facilitates individuals' ability to exercise their rights under the Privacy Act and OPM's ability to respond effectively. Accordingly, OPM is in the process of regrouping the records currently contained in OPM/Central-1 and publishing corresponding systems of records notices. Additional systems of records notices related to other record sets currently encompassed in OPM/Central-1 will be published in the future.

FEHB Program enrollment records will now be maintained in the system of records known as OPM/Central-23 FEHB Program Enrollment Records. This newly established system of records will be included in OPM's inventory of records systems. In accordance with 5 U.S.C. 552a(r), OPM has provided a report of this system of records to the Office of Management and Budget and to Congress.

Office of Personnel Management.
Alexys Stanley,
Regulatory Affairs Analyst.

SYSTEM NAME AND NUMBER:

FEHB Program Enrollment Records, OPM/Central-23

SECURITY CLASSIFICATION:

Unclassified.

SYSTEM LOCATION:

Healthcare and Insurance, Office of Personnel Management, 1900 E Street NW, Washington, DC 20415, is responsible for this system of records. The records are maintained at OPM's data center in Macon, Georgia and through an interagency agreement with the U.S. Department of Agriculture's National Finance Center in New Orleans, Louisiana.

SYSTEM MANAGER:

Director, Healthcare and Insurance, Office of Personnel Management, 1900 E Street NW, Washington, DC 20415.

AUTHORITY FOR MAINTENANCE OF THE SYSTEM:

5 U.S.C. Chapter 89, Health Insurance; 25 U.S.C. 1647b, (Tribal) Access to Federal Insurance; 39 U.S.C. 1005, Applicability of Laws Relating to Federal Employees; and 5 CFR part 890.

PURPOSES OF THE SYSTEM:

The purpose of this system of records is to support the administration of the Federal Employees Health Benefits (FEHB) Program, including business processes related to eligibility verification, enrollment transactions, enrollment reconciliation, and premium collection; and to support the evaluation of the effectiveness of the FEHB Program through auditing, statistical analysis, policy planning, and reporting. To effectuate these purposes, OPM also uses contracts and interagency agreements.

CATEGORIES OF INDIVIDUALS COVERED BY THE SYSTEM:

Enrollees (defined in 5 CFR 890.101) and their family members, who are or have been covered under the FEHB Program.

CATEGORIES OF RECORDS IN THE SYSTEM:

a. Full name, including any former names;

b. Social Security number, or other current or previous unique identification number(s);

c. Date of birth;

d. Date of death;

e. Sex;

f. Relationship code of any covered family member(s) to enrollee;

g. Mailing address;

h. Indicator for non-deliverable mailing address;

i. Date mailing address information was last processed;

j. Marital status;

k. Email address;

l. Enrollee's employment status;

m. Enrollee's employing office, including name and Personnel Office Identifier;

n. Enrollee's payroll office number;

o. Event code indicating the qualifying life event which permitted enrollment, a change in enrollment, or enrollment cancellation;

p. Transaction code indicating the most recent action that resulted in the creation or change of enrollment;

q. Date enrollment record was processed;

r. FEHB enrollment code, indicating plan, plan option, and enrollment type (Self Only, Self Plus One, or Self and Family);

s. Group insurance account identifier;

t. Effective date of FEHB coverage and any change in coverage;

u. Agency payroll office effective date;

v. Agency payroll office enrollment match code;

w. Code indicating the reason a family member's eligibility became effective;

x. End date of FEHB coverage, including possible 31-day extension;

y. Reason code for FEHB coverage termination;

z. Retirement claim number;

aa. Date employee retired;

bb. Date enrollee is reemployed by the Federal government;

cc. Medicare status, forms of Medicare coverage, and Medicare Beneficiary Identifier (formerly Medicare Claim Number);

dd. Other insurance, including name and policy number;

ee. Information related to tribal bank accounts in which FEHB premiums are maintained for monthly withdrawal; and

ff. Information necessary to verify family member eligibility, including but not limited to marriage certificates, birth certificates, and other information as set forth in OPM guidance.

RECORD SOURCE CATEGORIES:

Records are obtained from employing agencies and retirement systems, FEHB Carriers, shared service centers, the Centers for Medicare and Medicaid Services, Official Personnel Folders, retirement records and indirectly from individuals who participate in the FEHB Program. Note: With the establishment of this SORN, although enrollment records may continue to be maintained in other systems of records, Central-23 becomes the official, first line source for enrollment records.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside OPM as a routine use pursuant to 5 U.S.C. 552a(b)(3) as follows:

a. To the Department of Justice, including Offices of the U.S. Attorneys; another federal agency conducting litigation or in proceedings before any court, adjudicative, or administrative body; another party in litigation before a court, adjudicative, or administrative body; or to a court, adjudicative, or administrative body. Such disclosure is permitted only when it is relevant or necessary to the litigation or proceeding and one of the following is a party to the litigation or has an interest in such litigation:

(1) OPM, or any component thereof;

(2) Any employee or former employee of OPM in his or her official capacity;

(3) Any employee or former employee of OPM in his or her individual capacity where the Department of Justice or OPM has agreed to represent the employee;

(4) The United States, a Federal agency, or another party in litigation before a court, adjudicative, or administrative body, upon the OPM General Counsel's approval, pursuant to 5 CFR part 295 or otherwise.

b. To the appropriate Federal, State, or local agency responsible for investigating, prosecuting, enforcing, or implementing a statute, rule, regulation, or order, when a record, either on its face or in conjunction with other information, indicates or is relevant to a violation or potential violation of civil or criminal law or regulation.

c. To a member of Congress from the record of an individual in response to an inquiry made at the request of the individual to whom the record pertains.

d. To the National Archives and Records Administration (NARA) for records management inspections being conducted under the authority of 44 U.S.C. 2904 and 2906.

e. To appropriate agencies, entities, and persons when (1) OPM suspects or has confirmed that there has been a breach of the system of records, (2) OPM has determined that as a result of the suspected or confirmed breach there is a risk of harm to individuals, OPM (including its information systems, programs, and operations), the Federal Government, or national security; and (3) the disclosure made to such agencies, entities, and persons is reasonably necessary to assist in connection with OPM's efforts to respond to the suspected or confirmed breach or to prevent, minimize, or remedy such harm.

f. To another Federal agency or Federal entity, when OPM determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

g. To contractors, grantees, experts, consultants, or volunteers performing or working on a contract, service, grant, cooperative agreement, or other assignment for OPM when necessary to accomplish an agency function related to this system of records. Individuals provided information under this routine use are subject to the same Privacy Act requirements and limitations on disclosure as are applicable to OPM employees.

h. To employing offices, shared service centers, and FEHB Carriers, information necessary to identify, reconcile, and audit enrollment in a plan; to verify eligibility for or coverage under the FEHB Program; to verify eligibility for payment of a claim for health benefits; and to carry out coordination of benefits.

i. To any source, including employing offices, from which additional information is requested relevant to OPM determination on an individual's eligibility for or enrollment in the FEHB Program, to the extent necessary to identify the individual and the type of information requested.

j. To an official of another Federal agency, information needed in the performance of official duties related to reconciling or reconstructing data files; compiling descriptive statistics; and/or making analytical studies to support the function for which the records were collected and maintained.

k. To a spouse or dependent child (or court-appointed guardian thereof) of an FEHB enrollee whether the enrollee has made enrollment changes, including changing FEHB plans; cancelling or suspending FEHB enrollment; and changing from a Self and Family to a Self Plus One or Self Only health benefits enrollment, or from a Self Plus One to Self Only health benefits enrollment.

l. To provide an official of another Federal agency information needed in the performance of official duties related to federal employee health benefits counseling, customer service, or operational readiness.

m. To the following recipients, information needed to conduct an analytical study of benefits being paid under the FEHB Program or the recipient's benefits program(s): Federal, State, or local agencies.

n. To the following recipients, information needed to adjudicate a claim for benefits under the FEHB Program or the recipient's benefits program(s): Federal, State, local, or agencies.

o. To another Federal or non-Federal entity, information needed to verify enrollment information through the use of computer matching agreements under the Privacy Act of 1974, as amended (5 U.S.C. 552a).

POLICIES AND PRACTICES FOR STORAGE OF RECORDS:

These records in this system of records are stored electronically on OPM's servers hosted at an OPM data center and at the U.S. Department of Agriculture's National Finance Center. Access to the electronic systems is restricted to authorized users with a need to know.

POLICIES AND PRACTICES FOR RETRIEVAL OF RECORDS:

These records in this system of records are retrieved primarily by name and Social Security number, but may be retrieved by any personal identifier.

POLICIES AND PRACTICES FOR RETENTION AND DISPOSAL OF RECORDS:

A records retention schedule will be established with NARA for the records about covered individuals in this system of records and, until it is finalized, records will be treated as permanent. Once that schedule is established, the method(s) for disposing of records that are no longer be eligible for retention will be established.

ADMINISTRATIVE, TECHNICAL, AND PHYSICAL SAFEGUARDS:

Records in this system are protected from unauthorized access and misuse through various administrative, technical and physical security measures. OPM security measures are in compliance with the Federal Information Security Modernization Act of 2014 (Pub. L. 113-203), associated OMB policies, and applicable standards and guidance from the National Institute of Standards and Technology (NIST).

RECORD ACCESS PROCEDURES:

Individuals seeking notification of and access to their records in this system of records may do so by submitting a request in writing to the Office of Personnel Management, Office of Privacy and Information Management—FOIA, 1900 E Street NW, Washington, DC 20415-7900 or by emailing foia@opm.gov; ATTN: Healthcare and Insurance. Individuals must furnish the following information for their records to be located:

1. Full name, including any former name.

2. Date of birth.

3. Social Security Number.

4. Name and address of employing agency or retirement system.

5. Reasonable specification of the requested information.

6. The address to which the information should be sent.

7. Signature.

Individuals requesting access must also comply with OPM's Privacy Act regulations regarding verification of identity and access to records (5 CFR 297).

Enrollees who request access to their records will have access to the entirety of their record, to include information about all covered individuals who are part of their enrollment record. Family members of the enrollee who request access to their records may have access only to their own information and not to that of the enrollee or other covered family members.

CONTESTING RECORD PROCEDURES:

Individuals wishing to request amendment of records about them may do so by writing to the Office of Personnel Management, Office of Privacy and Information Management—FOIA, 1900 E Street NW, Washington, DC 20415-7900 or by emailing foia@opm.gov; ATTN: Healthcare and Insurance. Requests for amendment of records should include the words “PRIVACY ACT AMENDMENT REQUEST” in capital letters at the top of the request letter; if emailed include those words in the subject line. Individuals must furnish the following information for their records to be located:

1. Full name, including any former name, and address.

2. Date of birth.

3. Social Security Number.

4. Name and address of employing agency or retirement system.

5. Precise identification of the information to be amended.

6. Signature.

Individuals requesting amendment must also comply with OPM's Privacy Act regulations regarding verification of identity and access to records (5 CFR 297).

OPM may refer amendment requests to employing agencies, retirement systems, and FEHB Carriers because they may be the ultimate source of FEHB enrollment records.

NOTIFICATION PROCEDURES:

See “Record Access Procedure.”

EXEMPTIONS PROMULGATED FOR THE SYSTEM:

None.

HISTORY:

OPM/Central-1, “Civil Service Retirement and Insurance Records”, 73 FR 15013 (March 20, 2008), 80 FR 74815 (November 30, 2015).

[FR Doc. 2021-01259 Filed 1-19-21; 8:45 am]

BILLING CODE 6325-XX-P